DEPARTMENT OF TRANSPORTATION

Federal Aviation Administration

Fifth Meeting: RTCA Special Committee 206: Aeronautical Information Services Data Link

AGENCY: Federal Aviation Administration (FAA), DOT.

ACTION: Notice of RTCA Special Committee 206 meeting.

SUMMARY: The FAA is issuing this notice to advise the public of a meeting of RTCA Special Committee 206: Aeronautical Information Services Data Link.

DATES: The meeting will be held June 12-16, 2006, from 9 a.m. to 5 p.m.

ADDRESSES: The meeting will be held at Met Office, FitzRoy Road, Exeter, Devon, EX1 3PB, United Kingdom. On site Contact: Mr. Doug Johnson, doug.johnson@metoffice.com, Tel. +44 (0)1392 885680; Fax +44 (0) 1392 885681.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 206 meeting. The agenda will include:

• June 13:

• Opening Session (Chairman's Remarks and Introductions, Review and Approve Meeting Agenda and Minutes, Discussion, Action Item Review)

• Presentations

• Discussion of Joint Activities

• Discussion of Joint versus separate Deliverable Documents

• Breakout meetings of Subgroup 1 and Subgroup 2

• June 13:

• Subgroup 1 and Subgroup 2

• June 14:

• Subgroup 1 and Subgroup 2 Meetings

• June 15:

• Subgroup 1 and Subgroup 2 Meetings

• June 16:

• Subgroup 1 and Subgroup 2 Meetings

• Closing Session (Other Business, Chairman Wrap Up and Conclusions, Date and Place of Next Meeting, Closing Remarks, Adjourn)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 19, 2006.
Francisco Estrada C.,
RTCA Advisory Committee.

[FR Doc. 06-5029 Filed 6-1-06; 8:45 am]

BILLING CODE 4910-13-M